DEPARTMENT OF HOUSING AND URBAN DEVELOPMENT

[Docket No. FR-5443-N-02]

Notice of Availability of a Draft Environmental Impact Statement for the Sunset Area Community Planned Action, City of Renton, WA

AGENCY: Office of the Assistant Secretary for Community Planning and Development, HUD.

ACTION: Notice.

SUMMARY: The Department of Housing and Urban Development (HUD) gives this notice to the public, agencies and Indian Tribes on the availability for public review and comment of the Draft Environmental Impact Statement (Draft EIS) for the redevelopment of the Sunset Terrace public housing community in Renton, WA. HUD gives this notice on behalf of the City of Renton acting as the Responsible Entity for compliance with the National Environmental Policy Act (NEPA). Pursuant to the authority granted by section 26 of the U.S. Housing Act of 1937 (42 U.S.C. 1437x) in connection with projects assisted under section 9 of that Act (42 U.S.C. 1437g), the City of Renton has assumed responsibility for compliance with NEPA (42 U.S.C. 4321) in accordance with 24 CFR 58.1 and 58.4, and is the lead agency for compliance with the Washington State Environmental Policy Act (SEPA, RCW 43.21C). The Draft EIS is a joint NEPA and SEPA document intended to satisfy requirements of Federal and State environmental statutes. This notice is given in accordance with the Council on Environmental Quality regulations at 40 CFR parts 1500-1508.

Notice is also given that the City of Renton as Responsible Entity has decided to combine the National Historic Preservation Act, Section 106 process with the NEPA Environmental Impact Statement (EIS) in accordance with 36 CFR 800.8(c). Comments are also being requested on the Section 106 information presented in the Draft EIS as well as on the Section 106 process itself.

DATES: Written comments on the Draft EIS must be received January 31, 2011. Written comments should be addressed to the individual named below under the heading For Further Information Contact.

Public Hearing: A public hearing will be held for the public to provide verbal or written comment on the Draft EIS as well as on the proposed planned action ordinance. The public hearing will be held on January 5, 2011, at 6 p.m. before the Renton Planning Commission. The meeting will be held at the Council Chambers, 1055 S. Grady Way, Renton, WA 98057.

FOR FURTHER INFORMATION CONTACT: Erika Conkling, AICP, Senior Planner, City of Renton Department of Community and Economic Development, 1055 S. Grady Way, Renton, WA 98057, 425-430-6578 (voice) 425-430-7300 (fax), or e-mail: econkling@rentonwa.gov.

Copies of the Draft EIS are available at the above address for reference, and copies may be purchased for the cost of reproduction. The Draft EIS is also available on the Internet and can be viewed or downloaded at: http://rentonwa.gov/business/default.aspx?id=2060.

SUPPLEMENTARY INFORMATION: The proposal includes redevelopment of the Renton Housing Authority's (RHA's) Sunset Terrace public housing community, a 7.3-acre property with 100 existing units contained in 27 buildings that are 50-year-old, two-story structures, located at the intersection of NE. Sunset Boulevard and Harrington Avenue, NE. RHA also owns additional vacant land (approximately 3 acres with two dwelling units) along Edmonds Avenue, NE., Glenwood Avenue, NE., and Sunset Lane, NE., and intends to purchase additional property adjacent to Sunset Terrace, along Harrington Avenue, NE. (which contains about 8 dwellings); RHA plans to incorporate these additional properties into the Sunset Terrace redevelopment for housing and associated services. The Sunset Terrace public housing community units, facilities, and infrastructure are antiquated and the project is dilapidated.

Conceptual plans propose redevelopment of Sunset Terrace and adjacent properties with mixed-income, mixed-use residential and commercial space and public amenities. The redevelopment would include a 1-to-1 unit replacement for all 100 existing public housing units. All existing public housing units will be replaced either on-site or off-site, at locations within the existing Sunset Terrace site, and the Planned Action Study Area within the City; no net loss of low income housing units would occur. The project will require relocation of all existing residents and RHA is developing a relocation plan. It is expected that, with the Sunset Terrace property and associated properties owned or purchased by RHA, up to 479 additional new units could be constructed with a portion of the total units being public, affordable, and market rate. Public amenities would be integrated with the residential development and could include the following: A community gathering space or “third place;” civic facilities such as a community center, senior center, and/or public library space; a new park/open space; retail shopping and commercial space; and green infrastructure.

Sunset Terrace's redevelopment provides the opportunity to evaluate the neighborhood as a whole and determine what future land use redevelopment is possible and what public service and infrastructure improvements should be made in order to make this a more vibrant and attractive community for residents, businesses and property owners. The Draft EIS addresses the primary proposal of the Sunset Terrace area redevelopment as well as evaluate secondary proposals such as neighborhood redevelopment and supporting services and infrastructure improvements.

The City of Renton is also proposing to adopt a Planned Action Ordinance pursuant to SEPA. A Planned Action Ordinance, if adopted, would not require future SEPA threshold determinations or EISs for future projects that are consistent with EIS assumptions and mitigation measures.

The proposal is reviewed in terms of three alternatives.

Alternative 1, No Action. RHA would develop affordable housing on two vacant properties, but it would not redevelop the Sunset Terrace public housing property. Very limited public investment would be implemented (e.g., some community services but no NE Sunset Boulevard or drainage improvements), resulting in lesser redevelopment across the Planned Action study area. A Planned Action would not be designated. The No Action Alternative is required to be studied under NEPA and SEPA.

Alternative 2. This alternative represents a moderate level of growth in the Planned Action Study Area based on investment in mixed-income housing and mixed uses in the Potential Sunset Terrace Redevelopment Subarea, targeted infrastructure and public services throughout the Planned Action study area, and adoption of a Planned Action Ordinance.

Alternative 3. This alternative represents the highest level of growth in the Planned Action study area, based on investment in the Potential Sunset Terrace Redevelopment Subarea with a greater number dwellings developed in a mixed-income, mixed-use style, major public investment in study area infrastructure and services, and adoption of a Planned Action Ordinance.

The lead agency has addressed the following areas in the Draft EIS: Aesthetics; air quality, including greenhouse gas emissions; earth; energy; environmental health; environmental justice; historic/cultural resources; housing; land use; noise; parks and recreation; plants and animals; public services, including public education, safety, health, and social services; socioeconomics, including demographic, employment, and displacement; transportation; utilities, including wastewater, stormwater, water supply, telecommunication, natural gas, power, electrical; and water resources, including groundwater and surface water. Mitigation measures are identified in the Draft EIS.

Questions may be directed to the individual named above under the heading of For Further Information Contact.

Dated: November 23, 2010.
Mercedes M. Márquez,
Assistant Secretary for Community Planning and Development.

[FR Doc. 2010-31654 Filed 12-15-10; 8:45 am]

BILLING CODE 4210-67-P